NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 30, 2000. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too, includes information about the records. Further information about the disposition process is available on request.

Schedules Pending

1. Department of Defense, Defense Logistics Agency (N1-361-99-3, 3 items, 2 temporary items). Electronic copies of documents created using electronic mail and word processing that are associated with materials accumulated by agency historians or used for historical purposes. Recordkeeping copies of these files are proposed for permanent retention.

2. Department of Defense, National Imagery and Mapping Agency (N1-537-99-2, 52 items, 52 temporary items). Paper and electronic records relating to research and development in the systems/technology area, including electronic copies of documents created using electronic mail and word processing. Records relate to such subjects as preparation of budgets, project administration, evaluations of unsolicited proposals, systems engineering, testing, and computer support. This schedule does not include such records as overall program management and policy files, design drawings, concept papers and other documents concerning intelligence and geospatial extraction projects, and audiovisual records, which will be scheduled separately.

3. Department of Defense, Office of the Inspector General (N1-509-00-4, 9 items, 9 temporary items). Records relating to inspection procedures and administration and to inspection concept development, including electronic copies of documents created using electronic mail and word processing. Records documenting approved inspection concepts are to be transferred to separate inspections case files, which were previously approved for permanent retention.

4. Department of Energy, National Renewable Energy Laboratory (N1-434-99-4, 6 items, 6 temporary items). Records relating to legal matters. Included are attorney working files, records relating to standards of conduct and intellectual property, and electronic copies of documents created using electronic mail and word processing.

5. Department of Health and Human Services, National Institutes of Health (N1-443-00-3, 28 items, 27 temporary items). Patient and other medical records relating to the operation of the Clinical Center, including electronic copies of documents created using electronic mail and word processing. Records relate to such matters as the collection and disbursement of funds donated to meet emergency needs of patients, blood collection and testing, laboratory findings, diagnostic radiology, transfusion services, the use of student volunteers, and medical treatment provided patients. Clinical Center protocol files, documenting approved proposals for the use of human subjects in research and related activities, are proposed for permanent retention.

6. Department of Justice, Office of the Inspector General (N1-60-99-11, 7 items, 5 temporary items). Records relating to audits, inspections, and investigations consisting of reports, correspondence, memoranda, and supporting work papers, including electronic copies of documents created using electronic mail and word processing. Recordkeeping copies of final reports of audits and inspections are proposed for permanent retention. Record-keeping copies of historically significant investigation case files were previously approved for permanent retention.

7. Department of Labor, Bureau of Labor Statistics (N1-257-00-2, 5 items, 5 temporary items). Paper and electronic records relating to international price programs consisting of company information, importing and exporting data, and information on pricing. This schedule reduces the retention period for paper files, which were previously approved for disposal.

8. Department of Labor, Employment Standards Administration (N1-317-99-1, 16 items, 12 temporary items). Labor organization reports and related correspondence, investigative case files, and electronic and paper records associated with the Labor Organization Reporting System (LORS), a database which contains information extracted from labor organization reports. Also included are electronic copies of documents created using electronic mail and word processing. Proposed for permanent retention are recordkeeping copies of historically significant investigative case files and LORS data in CD-ROM format, with related documentation. Paper copies of labor organization reports and related correspondence were previously approved for disposal.

9. Department of Labor, Mine Safety and Health Administration (N1-433-00-1, 37 items, 34 temporary items). Records relating to agency directives and other issuances. Included are issuances that pertain to administrative management, bulletins that provide information of interest to agency employees, and files relating to the preparation of issuances. Electronic copies of documents created using electronic mail and word processing also are included. Recordkeeping copies of manuals, handbooks, and other issuances that pertain to agency organization, policies, and procedures are proposed for permanent retention.

10. Department of the Navy, United States Marine Corps (N1-NU-00-1, 7 items, 7 temporary items). Field supply comprehensive analysis records and related logistics reports as well as environmental protection records relating to lead and copper control. Records include critiques, background information, and findings regarding supply problems, reports on logistical difficulties, and reports and related records on the control of lead and copper in water systems. Also proposed for disposal are electronic copies of documents created using electronic mail and word processing.

11. Department of Transportation, Surface Trans-portation Board (N1-134-99-3, 1 item, 1 temporary item). Official tariff files relating to the rates and practices of carriers regarding the transportation of property and passengers. This schedule reduces the retention period of the records, which were previously approved for disposal.

12. Environmental Protection Agency, Office of Research and Development (N1-412-97-4, 6 items, 5 temporary items). Applications and related records pertaining to the use of alternate test procedures for monitoring water and air pollutants. Proposed for permanent retention are records relating to approved alternate test procedures for monitoring radioactive materials.

13. Environmental Protection Agency, Agency-wide (N1-412-00-4, 4 items, 4 temporary items). Records associated with the Grants Information and Control System (GICS), including software programs, electronic data, ad hoc and monthly reports, and supporting documentation. GICS is a tracking system for financial, administrative, and project data for grants, interagency agreements, and cooperative agreements.

14. Federal Energy Regulatory Commission, Office of Electric Power Regulation (N1-138-99-7, 3 items, 3 temporary items). Transmission Planning and Evaluation Reports, which are submitted annually by transmitting utilities that own or operate integrated transmission facilities at or above 100 kilovolts. Reports relate to transmission planning, constraints, and available transmission capacity. Also included are electronic copies of documents created using electronic mail and word processing.

15. Federal Energy Regulatory Commission, Office of the Chief Information Officer (N1-138-98-12, 6 items, 6 temporary items). Records associated with the Publications and Correspondence Tracking System (PACTS), an automated system used to track the status of requests for information from the Commission's public reference room. Included are such records as the PACTS electronic database, reports generated from the database, and systems documentation.

16. Office of Management and Budget, Cost Accounting Standards Board (N1-51-00-1, 1 item, 1 temporary item). Accounting disclosure statements accumulated during the period 1968 to 1980. Statements, which were submitted by contractors performing work for the Department of Defense, the Department of Energy, and the National Aeronautics and Space Administration, include information on annual total sales to the government and the allocation of expenses.

17. Social Security Administration (N1-47-00-1, 47 items, 33 temporary items). Older records accumulated by various agency administrative and program offices, primarily during the period 1935 to 1945, that relate to such matters as accounting, personnel management, grants, information services, and disability insurance. Included are such records as blank survey forms, press clippings, quarterly workload reports, working papers and survey files used to prepare reports, closed state grant-in-aid reports and audits, ledgers of expenditures for grant-in-aid programs, grant docket files, subject files relating to hospital facilities, personnel subject files, and time and attendance files. Records proposed for permanent retention, which span the period 1935 to 1966, include correspondence, subject files, reports, and related program records of the Bureau of Public Assistance, the Social Security Board Information Services unit, the Office of Program Operations, the Office of Federal-State Relations, the Office of Research and Statistics, and the Office of the Actuary.

18. Tennessee Valley Authority, Engineering Services (N1-142-97-12, 17 items, 17 temporary items). Meteorological and precipitation data used to provide raw data for reports on precipitation in the Tennessee River Basin issued monthly and annually. Records include rain gauge recorder charts, observer reports and weather summaries, visibility data charts and reports, and records relating to equipment validation.

19. District Courts of the United States, All District Courts (N1-21-00-2, 1 item, 1 temporary item). Subpoenas that were issued for persons outside of a court's district. Such subpoenas are no longer accumulated by District Courts.

20. District Courts of the United States, U.S. District Court for the District of Columbia (N1-21-99-1, 10 items, 6 temporary items). Older records dating from approximately 1899 to 1970 relating to hospital liens, mechanic liens, attorney grievances, appearance bonds, notaries, and applications from ministers seeking authority to perform marriages. Case files relating to persons committed to mental health facilities, adoptions, and guardianship are proposed for permanent retention.

Dated: February 24, 2000.
Michael J. Kurtz,
Assistant Archivist for Record Services—Washington, DC.

[FR Doc. 00-3341 Filed 2-11-00; 8:45 am]

BILLING CODE 7515-01-P